DEPARTMENT OF ENERGY

Federal Energy Regulatory Commission

[Docket No. RP17-303-000]

Natural Gas Pipeline Company of America LLC; Notice of Initiation of Section 5 Proceeding

On January 19, 2017, the Commission issued an order in Docket No. RP17-303-000, pursuant to section 5 of the Natural Gas Act, 15 U.S.C. 717d (2012), instituting an investigation into the justness and reasonableness of Natural Gas Pipeline Company of America LLC's (Natural) currently effective tariff rates. The Commission's order directs Natural to file a full cost and revenue study within 75 days of the issuance of the order. Natural Gas Pipeline Company of America LLC, 158 FERC ¶ 61,044 (2017).

Any interested person desiring to be heard in Docket No. RP17-303-000 must file a notice of intervention or motion to intervene, as appropriate, with the Federal Energy Regulatory Commission, 888 First Street NE., Washington, DC 20426, in accordance with Rule 214 of the Commission's Rules of Practice and Procedure, 18 CFR 385.214, within 30 days of the date of issuance of the order.

Dated: January 19, 2017.
Nathaniel J. Davis, Sr.,
Deputy Secretary.

[FR Doc. 2017-01785 Filed 1-25-17; 8:45 am]

BILLING CODE 6717-01-P